DEPARTMENT OF ENERGY

Federal Energy Regulatory Commission

[Project No. 1892-000 New Hampshire-Vermont; Project No. 1855-000 New Hampshire-Vermont; Project No. 1904-000 New Hampshire-Vermont; Project No. 2485-000 Massachusetts; Project No. 1889-000 Massachusetts]

TransCanada Hydro Northeast Inc.; FirstLight Power Resources; Notice of Environmental Site Review

In anticipation of the filing of a Notice of Intent (NOI) and Pre-Application Document for three hydroelectric projects owned and operated by TransCanada Hydro Northeast Inc. (TransCanada) in New Hampshire and Vermont (Wilder Dam Hydroelectric Project No. 1892, Bellows Falls Hydroelectric Project No. 1855, and Vernon Dam Hydroelectric Project No. 1904), and two projects owned and operated by FirstLight Power Resources in Massachusetts (Northfield Mountain Pumped Storage Hydroelectric Project No. 2485, and Turners Falls Hydroelectric Project No. 1889), all located on the Connecticut River, the Federal Energy Regulatory Commission (Commission) will be hosting an environmental site review for each of the projects during the first week of October 2012.

The environmental site reviews are being held to provide all stakeholders, interested in the projects' pending relicensing proceedings, an opportunity to view the projects' facilities and surrounding areas.

Under the Commission's Integrated Licensing Process, the Commission conducts its National Environmental Policy Act (NEPA) scoping meeting within 90 days of the filing of the Licensee's Notice of Intent. An environmental site review is typically held in conjunction with that scoping meeting. However, access to some project facilities may be limited by winter weather during the early part of 2013 when scoping for this project is currently anticipated. For this reason, the Commission has chosen to host the environmental site reviews in October before the onset of winter. While the Commission expects to host its NEPA scoping meetings for the projects in early 2013, it will not conduct the environmental site reviews at that time. As such, the Commission encourages all interested parties to participate in the October environmental site review(s) to facilitate productive scoping meetings early next year. Details of the project specific environmental site reviews follow.

TransCanada's Projects

Wilder Dam Hydroelectric Project (P-1892)

• Tour of Wilder Project Facilities

Date and Time: October 1, 2012 at 9 a.m.

Location: Wilder Station, 351 Wilder Dam Rd., Wilder, VT 05088.

• Wilder Project Reservoir Tour

Date and Time: October 1, 2012 at 1 p.m.

Location: Wilder Station, 351 Wilder Dam Rd., Wilder, VT 05088.

Bellows Falls Hydroelectric Project (P-1855)

• Tour of Bellows Falls Project Facilities

Date and Time: October 2, 2012 at 9 a.m.

Location: Bellows Falls Hydroelectric Project Visitor Center, 17 Bridge St., Bellows Falls, VT 05101.

• Bellows Falls Project Reservoir Tour

Date and Time: October 2, 2012 at 1 p.m.

Location: Pine Street Recreation Area, 99 Pine St., North Walpole, NH 03609.

Vernon Dam Hydroelectric Project (P-1904)

• Tour of Vernon Project Facilities

Date and Time: October 3, 2012 at 9 a.m.

Location: Vernon Station, 152 Governor Hunt Road, Vernon VT 05354.

• Vernon Project Reservoir Tour

Date and Time: October 3, 2012 at 1 p.m.

Location: Vernon Station, 152 Governor Hunt Road, Vernon VT 05354.

FirstLight's Projects

FirstLight will bus attendees from the Northfield Mountain Visitors Center to tour the Northfield Mountain Pumped Storage Hydroelectric Project and the Turners Falls Hydroelectric Project. Bus capacity is approximately 55 individuals. In addition, FirstLight is providing a boat tour of the section of the Connecticut River impounded by the Turners Falls Project which also serves as the lower reservoir for the Northfield Mountain Pumped Hydroelectric Storage Project. Boat capacity is approximately 44 individuals. Depending on the number of participants that R.S.V.P., two tour groups (Group 1 and Group 2) may be established. The schedule below reflects the two groups. All individuals should meet at the Northfield Mountain Visitors Center (address below) on October 4, 2012 at 8 a.m. for a briefing on both projects.

Group 1 Schedule:

Northfield Mountain Pumped Storage Hydroelectric Project (P-2485)

• Tour of Northfield Mountain Pumped Storage Project Facilities

Date and Time: October 4, 2012 at 8 a.m.

Location: Northfield Mountain Visitors Center, 99 Millers Falls Road, Northfield, MA 01360.

• Reservoir Tour (P-1889 & P-2485)

Date and Time: October 4, 2012 at 1 p.m.

Location: Northfield Mountain Visitors Center, 99 Millers Falls Road, Northfield, MA 01360.

Turners Falls Hydroelectric Project (P-1889)

• Tour of Turners Falls Hydroelectric Project Facilities

Date and Time: October 5, 2012 at 8 a.m.

Location: Northfield Mountain Visitors Center, 99 Millers Falls Road, Northfield, MA 01360.

Group 2 Schedule:

Northfield Mountain Pumped Storage Hydroelectric Project (P-2485)

• Reservoir Tour (P-1889 & P-2485)

Date and Time: October 4, 2012 at 8 a.m.

Location: Northfield Mountain Visitors Center, 99 Millers Falls Road, Northfield, MA 01360.

• Tour of Northfield Mountain Pumped Storage Project Facilities

Date and Time: October 4, 2012 at 1 p.m.

Location: Northfield Mountain Visitors Center, 99 Millers Falls Road, Northfield, MA 01360.

Turners Falls Hydroelectric Project (P-1889)

• Tour of Turners Falls Hydroelectric Project Facilities

Date and Time: October 5, 2012 at 8 a.m.

Location: Northfield Mountain Visitors Center, 99 Millers Falls Road, Northfield, MA 01360.

Directions and Logistics

For safety purposes, individuals attending an environmental site review and/or Reservoir Tour are asked to dress accordingly. Please wear pants, long sleeve shirts, and closed-toe shoes. Failure to comply with this request may result in limiting the attendee's access to project facilities.

To facilitate logistical arrangements, if you plan to attend an environmental site review and/or reservoir tour, please R.S.V.P. to the appropriate licensee point-of-contact (see below) by September 15, 2012, and identify the number of individuals in your group.

Licensee Points-of-Contact

TransCanada Projects: Mr. John Ragonese, FERC License Manager, TransCanada, 4 Park Street, Concord, NH 03301, Phone: (603) 225-5528; Cell/VM (603) 498-2851, Email: john_ragonese@transcanada.com.

FirstLight Projects: Mr. John Howard, Station Manager, FirstLight, 99 Millers Falls Road, Northfield, MA 01360, Phone: (413) 659-4489, Email: John.Howard@gdfsuezna.com.

If you need further logistical information or directions, please contact the appropriate licensee point-of-contact identified above. All other questions regarding the environmental site review(s) or the Commission's Integrated Licensing Process may be directed to Kenneth Hogan of the Commission's staff at (202) 502-8434 or via email at: Kenneth.Hogan@ferc.gov.

Dated: August 3, 2012.
Kimberly D. Bose,
Secretary.

[FR Doc. 2012-19513 Filed 8-8-12; 8:45 am]

BILLING CODE 6717-01-P